DEPARTMENT OF HEALTH AND HUMAN SERVICES

Agency for Healthcare Research and Quality

Meeting of the Citizens' Health Care Working Group

AGENCY: Agency for Healthcare Research and Quality (AHRQ).

ACTION: Notice of public meeting.

SUMMARY: In accordance with section 10(a) of the Federal Advisory Committee Act, this notice announces the first meeting of the Citizens' Health Care Working Group mandated by section 1014 of the Medicare Modernization Act.

DATES: The meeting will be held on Monday, April 11, 2005 from 8:30 a.m. to 5 p.m. and Tuesday, April 12, 2005 from 8:30 a.m. to 3:30 p.m.

ADDRESSES: The meeting will be held at the Agency for Healthcare Research and Quality, 540 Gaither Road, Rockville, Maryland 20850. The meeting is open to the public.

FOR FURTHER INFORMATION CONTACT: Larry T. Patton, AHRQ Liaison to the Citizens' Health Care Working Group, at (202) 260-7251 or 1patton@ahrq.gov.

If sign language interpretation or other reasonable accommodation for a disability is needed, please contact Mr. Donald L. Inniss, Director, Office of Equal Employment Opportunity Program, Program Support Center, on (301) 443-1144 no later than April 1, 2005. Agenda, roster, and minutes are available from Larry T. Patton, AHRQ Liaison to the Citizens' Health Care Working group, at (202) 260-7251 or 1patton@ahrq.gov.

SUPPLEMENTARY INFORMATION: Section 1014 of Pub. L. 108-173, the Medicare Modernization Act (42 U.S.C. 299 note) directs the Secretary of the Department of Health and Human Services (DHHS), acting through the Agency for Healthcare Research and Quality, to establish a Citizens' Health Care Working Group (Working Group). The statute charges the Working Group to: (1) Identify options for changing our health care system so that every American has the ability to obtain quality, affordable health care coverage; (2) provide for a nationwide public debate about improving the health care system; and (3) submit their recommendations to the President and the Congress.

The Citizens' Health Care Working Group is composed of 15 members: the Secretary of DHHS is designated as a member by the statute and the Comptroller General of the U.S. Government Accountability Office (GAO) is directed to appoint the remaining 14 members. The Comptroller General announced the 14 appointments on February 28, 2005. A list of the Working group members is available on the GAO Web site (http://www.gao.gov.).

Agenda

On April 11 and April 12, 2005, the meeting will begin at 8:30 a.m., with the call to order by the Working group Chair. This first meeting of the Working group will address organizational issues; a review of its statutory charge, review of applicable Federal regulations governing its work, the development of additional policies to govern its operations, and the establishment of the format, location, and schedule for their initial meetings. The official agenda will be available on AHRA's Web site at http://www.ahrq.gov no later than April 1, 2005.

Dated: March 24, 2005.
Carolyn M. Clancy,
Director.

[FR Doc. 05-6176 Filed 3-24-05; 1:58 pm]

BILLING CODE 4160-90-M